DEPARTMENT OF ENERGY

Federal Energy Regulatory Commission

Combined Notice of Filings

Take notice that the Commission has received the following Natural Gas Pipeline Rate and Refund Report filings:

Filing Instituting Proceedings

Docket Numbers: RP17-295-000.

Applicants: Transcontinental Gas Pipe Line Company, LLC.

Description: Transcontinental Gas Pipe Line Company, LLC, submits tariff filing per 154.204: Negotiated Rates—Cherokee AGL—Replacement Shippers—Jan 2017 to be effective 1/1/2017.

Filed Date: 12/28/16.

Accession Number: 20161228-5090.

Comments Due: 5 p.m. ET 1/9/17.

Docket Numbers: RP17-296-000.

Applicants: Transcontinental Gas Pipe Line Company, LLC.

Description: Transcontinental Gas Pipe Line Company, LLC, submits tariff filing per 154.204: Non-Conforming Agreement—Gulf Trace to be effective 2/1/2017.

Filed Date: 12/29/16.

Accession Number: 20161229-5000.

Comments Due: 5 p.m. ET 1/10/17.

Docket Numbers: RP17-297-000.

Applicants: Transcontinental Gas Pipe Line Company, LLC.

Description: Transcontinental Gas Pipe Line Company, LLC, submits tariff filing per 154.204: Gulf Trace Expansion Initial Rates to be effective 2/1/2017.

Filed Date: 12/29/16.

Accession Number: 20161229-5017.

Comments Due: 5 p.m. ET 1/10/17.

Docket Numbers: RP17-298-000.

Applicants: Texas Eastern Transmission, LP.

Description: Texas Eastern Transmission, LP, submits tariff filing per 154.403: EPC FEB 2017 FILING to be effective 2/1/2017.

Filed Date: 12/29/16.

Accession Number: 20161229-5018.

Comments Due: 5 p.m. ET 1/10/17.

Docket Numbers: RP17-299-000.

Applicants: Transcontinental Gas Pipe Line Company, LLC.

Description: Transcontinental Gas Pipe Line Company, LLC, submits tariff filing per 154.204: Update List of Non-Conforming Service Agreements (Gulf Trace) to be effective 2/1/2017.

Filed Date: 12/29/16.

Accession Number: 20161229-5020.

Comments Due: 5 p.m. ET 1/10/17.

Docket Numbers: RP17-300-000.

Applicants: Trailblazer Pipeline Company, LLC.

Description: Trailblazer Pipeline Company LLC submits tariff filing per 154.204: Neg Rate 2016-12-29 Tenaska, 2 Ks to be effective 1/1/2017.

Filed Date: 12/29/16.

Accession Number: 20161229-5055.

Comments Due: 5 p.m. ET 1/10/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2016.
Nathaniel J. Davis, Sr.,
Deputy Secretary.

[FR Doc. 2017-01922 Filed 1-27-17; 8:45 am]

BILLING CODE 6717-01-P